DEPARTMENT OF DEFENSE

Department of the Army

Intent To Grant an Exclusive License of a U.S. Government-Owned Patent Application

AGENCY: Department of the Army, DoD.

ACTION: Notice.

SUMMARY: In accordance with 35 U.S.C. 209(e) and 37 CFR 404.7(a)(I)(i), announcement is made of the intent to grant an exclusive, royalty-bearing, revocable license to U.S. patent application number 11/238,155 filed September 28, 2005 entitled “MVA Expressing Modified HIV envelope, gag, and pol Genes,” and foreign rights to Henry M. Jackson Foundation for the Advancement of Military Medicine with its principal place of business at 1401 Rockville Pike, Suite 600, Rockville, MD 20852. This invention is jointly owned by the Henry M. Jackson Foundation for the Advancement of Military Medicine, the National Institutes of Health, and the U.S. Army.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 06-6363 Filed 7-19-06; 8:45 am]

BILLING CODE 3710-08-M